DEPARTMENT OF THE INTERIOR

Bureau of Indian Affairs

Request for Comments on Grazing Regulations Information Collection Renewal

AGENCY: Bureau of Indian Affairs, Interior.

ACTION: Notice of proposed collection.

SUMMARY: As required by the Paperwork Reduction Act of 1995, we are renewing the information collection found in the general grazing regulations. The purpose of this data collection is to ensure that grazing regulations are administered for the benefit of Indian tribes and individual Indians. We invite your comments on this renewal of OMB Control No. 1076-0157.

DATES: Comments on this proposed information collection must be received by December 29, 2006.

ADDRESSES: Send comments to James Orwin, Office of Trust Services, Division of Natural Resources, Mail Stop 4655, 1849 C Street NW., Washington, DC 20240. Comments may also be faxed to (202) 219-0006. We cannot accept e-mail comments at this time.

FOR FURTHER INFORMATION CONTACT: James R. Orwin, (202) 208-6464.

SUPPLEMENTARY INFORMATION: The collection of information is authorized under Public Law 103-177, the “American Indian Agricultural Resource Management Act,” as amended. Tribes, tribal organizations, individual Indians, and those entering into permits with tribes or individual Indians submit information required by the regulation. The information is used by the Bureau of Indian Affairs to determine:

(a) Whether or not a permit for grazing may be approved or granted;

(b) The value of each permit;

(c) The appropriate compensation to landowners; and

(d) Provisions for violations of permit and trespass.

Request for Comments

The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 4648, during the hours of 8 a.m. to 4 p.m. EST, Monday through Friday except for legal holidays. If you wish to have your name and/or address withheld, you must state this prominently at the beginning of your comments. We will honor your request according to the requirements of the law. All comments from organizations or their representatives will be available for review. We may withhold comments from review for other reasons.

Information Collection Abstract

OMB Control Number: 1076-0157.

Type of review: Renewal.

Title: Grazing Permits, 25 CFR 166.

Brief description of collection: Information is collected through a grazing permit application. Respondent supplies all information needed to prepare a grazing permit, including: name, address, range unit requested, number of livestock, season of use, livestock owner's brand, kind of livestock, mortgage holder information, ownership of livestock, and requested term of permit.

Respondents: Possible respondents include: Individual tribal members, individual non-Indians, individual tribal member-owned businesses, non-Indian owned businesses, tribal governments, and land owners who are seeking a benefit; namely, grazing privileges.

Number of Responses: 2,570 annually.

Estimated Time per Response: ⅓ hour.

Frequency of Response: Annually.

Total Annual Burden to Respondents: 861 hours.

Dated: October 20, 2006.
Michael D. Olsen,
Principal Deputy Assistant Secretary—Indian Affairs.

[FR Doc. E6-18171 Filed 10-27-06; 8:45 am]

BILLING CODE 4310-W7-P